ENVIRONMENTAL PROTECTION AGENCY

[FRL-7036-6]

Agency Information Collection Activities: Proposed Collection; Comment Request; Federal Plan Recordkeeping and Reporting Requirements for Large Municipal Waste Combustors Constructed on or before September 20, 1994 (Subpart FFF)

AGENCY: Environmental Protection Agency (EPA).

ACTION: Notice.

SUMMARY: In compliance with the Paperwork Reduction Act (44 U.S.C. 3501 et seq.), this document announces that EPA is planning to submit the following continuing Information Collection Request (ICR) to the Office of Management and Budget (OMB): Federal Plan Recordkeeping and Reporting Requirements for Large Municipal Waste Combustors Constructed on or before September 20, 1994 (Subpart FFF); EPA ICR Number 1847.02; OMB Control Number 2060-0390; expiration date December 31, 2001. Before submitting the ICR to OMB for review and approval, EPA is soliciting comments on specific aspects of the proposed information collection as described below.

DATES: Comments must be submitted on or before October 16, 2001.

ADDRESSES: Compliance Assistance and Sector Program Division, Office of Compliance, Office of Enforcement and Compliance Assurance, Mail Code 2224A, U. S. Environmental Protection Agency, 1200 Pennsylvania Ave, NW.; Washington D.C. 20460. A hard copy of this ICR may be obtained without charge by calling the identified information contact individual.

FOR FURTHER INFORMATION CONTACT: Carolyn Young at (202) 564-7062, fax at (202) 564-0009, or by E-mail at www.young.carolyn@epa.gov.

SUPPLEMENTARY INFORMATION: Affected entities: Entities potentially affected by this action are those which are owners and operators of municipal waste combustors (MWCs) with a capacity to combust greater than 250 tons per day located in States that do not have EPA-approved State plans.

Title: Federal Plan Recordkeeping and Reporting Requirements for Large Municipal Waste Combustors Constructed on or before September 20, 1994 (Subpart FFF); OMB Control Number 2060-0390, EPA ICR Number 1847.01, expiration date December 31, 2001.

Abstract: This information collection is required as a result of a Federal plan to implement and enforce the Clean Air Act (CAA) emission guidelines (40 CFR part 60, subpart Cb) for large municipal waste combustors that were promulgated under the authority of CAA sections 111 and 129. The emission guidelines are not Federally enforceable. Under the CAA section 129(b)(2), States were required to submit State plans to the Environmental Protection Agency (EPA) for approval by December 19, 1996 that implement and enforce the guidelines. Section 129(b)(3) requires EPA to promulgate a Federal plan to implement and enforce the guidelines in those States that have not submitted an approvable plan to EPA by December 19, 1997. Such a plan was promulgated at 40 CFR part 62, subpart FFF (the rule). The reporting and recordkeeping requirements of the rule apply to MWC units with capacities to combust greater than 250 tons per day. The EPA Regional Offices collect the required information to ensure that the Federal plan is being implemented and enforced for affected facilities in States that have not submitted an approvable State plan by December 19, 1997.

An agency may not conduct or sponsor, and a person is not required to respond to, a collection of information unless it displays a currently valid OMB control number. The OMB control numbers for EPA's regulations are listed in 40 CFR part 9 and 48 CFR chapter 15.

The EPA would like to solicit comments to:

(i) evaluate whether the proposed collection of information is necessary for the proper performance of the functions of the Agency, including whether the information will have practical utility;

(ii) evaluate the accuracy of the Agency's estimate of the burden of the proposed collection of information, including the validity of the methodology and assumptions used;

(iii) enhance the quality, utility, and clarity of the information to be collected; and

(iv) minimize the burden of the collection of information on those who respond through the use of automated, electronic, mechanical, or other forms of information technology.

Burden Statement

The EPA estimates that there are 56 respondents that would submit 112 responses per year to the EPA. The annual burden is projected to be 59,366 hours annually at a cost of between $2,059,000 per year to meet the monitoring, recordkeeping, and reporting requirements of the rule. The frequency of response is semiannual and the estimated average burden hour cost per response is estimated to be 530 hours.Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Dated: August 6, 2001.
Lisa C. Lund,
Acting Director, Office of Compliance.

[FR Doc. 01-20793 Filed 8-16-01; 8:45 am]

BILLING CODE 6560-50-P